DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on April 10, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On April 10, 2025, OFAC determined that the property and interests in property subject to U.S. jurisdiction of the following persons are blocked under the relevant sanctions authority listed below.

Individual

1. BRAR, Jugwinder Singh, Dubai, United Arab Emirates; DOB 15 Mar 1962; POB Kot Kapura, India; nationality India; Gender Male; Identification Number 01872998 (India) (individual) [IRAN-EO13902].

Designated pursuant to section 1(a)(i) of Executive Order 13902 of January 10, 2020, “Imposing Sanctions With Respect to Additional Sectors of Iran,” 85 FR 2003, 3 CFR, 2020 Comp., p. 299 (E.O. 13902), for operating in the petroleum sector of the Iranian economy.

Entities

BILLING CODE 4810-AL-P

BILLING CODE 4810-AL-C

Vessels

1. GLOBAL ELEGANCE (E5U4389) Chemical/Oil Tanker; Former Vessel Flag Cook Islands; Vessel Registration Identification IMO 9232955; MMSI 518998409 (vessel) [IRAN-EO13902] (Linked To: BRAR, Jugwinder Singh).

Identified as property in which JUGWINDER SINGH BRAR, a person whose property and interests in property are blocked pursuant to E.O. 13902, has an interest.

2. GLOBAL EMERALD (3E2462) Products Tanker Panama flag; Vessel Registration Identification IMO 8982888; MMSI 352001105 (vessel) [IRAN-EO13902] (Linked To: BRAR, Jugwinder Singh).

Identified as property in which JUGWINDER SINGH BRAR, a person whose property and interests in property are blocked pursuant to E.O. 13902, has an interest.

3. GLOBAL PEAK (3FBM7) Products Tanker Panama flag; Vessel Registration Identification IMO 9125712; MMSI 354117000 (vessel) [IRAN-EO13902] (Linked To: BRAR, Jugwinder Singh).

Identified as property in which JUGWINDER SINGH BRAR, a person whose property and interests in property are blocked pursuant to E.O. 13902, has an interest.

4. GLOBAL RANI (T8A4955) Chemical/Oil Tanker Palau flag; Vessel Registration Identification IMO 9136113; MMSI 511101535 (vessel) [IRAN-EO13902] (Linked To: BRAR, Jugwinder Singh).

Identified as property in which JUGWINDER SINGH BRAR, a person whose property and interests in property are blocked pursuant to E.O. 13902, has an interest.

5. GLOBAL STAR (3FYM8) Chemical/Oil Tanker Panama flag; Vessel Registration Identification IMO 9164500; MMSI 354068000 (vessel) [IRAN-EO13902] (Linked To: BRAR, Jugwinder Singh).

Identified as property in which JUGWINDER SINGH BRAR, a person whose property and interests in property are blocked pursuant to E.O. 13902, has an interest.

6. GLOBAL EVEREST (3EUO4) Oil Products Tanker Panama flag; Vessel Registration Identification IMO 9125724; MMSI 352995000 (vessel) [IRAN-EO13902] (Linked To: BRAR, Jugwinder Singh).

Identified as property in which JUGWINDER SINGH BRAR, a person whose property and interests in property are blocked pursuant to E.O. 13902, has an interest.

7. GLOBAL FALCON (T8A4956) Chemical/Oil Tanker Palau flag; Vessel Registration Identification IMO 9399167; MMSI 511101536 (vessel) [IRAN-EO13902] (Linked To: BRAR, Jugwinder Singh).

Identified as property in which JUGWINDER SINGH BRAR, a person whose property and interests in property are blocked pursuant to E.O. 13902, has an interest.

8. GLOBAL MAHARANI (8P2426) Oil Products Tanker Barbados flag; Vessel Registration Identification IMO 9546708; MMSI 314932000 (vessel) [IRAN-EO13902] (Linked To: BRAR, Jugwinder Singh).

Identified as property in which JUGWINDER SINGH BRAR, a person whose property and interests in property are blocked pursuant to E.O. 13902, has an interest.

9. GLORY STAR I (3E4656) Oil Products Tanker Panama flag; Vessel Registration Identification IMO 9463528; MMSI 352002878 (vessel) [IRAN-EO13902] (Linked To: BRAR, Jugwinder Singh).

Identified as property in which JUGWINDER SINGH BRAR, a person whose property and interests in property are blocked pursuant to E.O. 13902, has an interest.

10. HARMONY (8PVO9) Oil Products Tanker Barbados flag; Vessel Registration Identification IMO 9397030; MMSI 314825000 (vessel) [IRAN-EO13902] (Linked To: BRAR, Jugwinder Singh).

Identified as property in which JUGWINDER SINGH BRAR, a person whose property and interests in property are blocked pursuant to E.O. 13902, has an interest.

11. OCEAN PRINCESS 1 (3EVR9) Oil Products Tanker Panama flag; Vessel Registration Identification IMO 8413306; MMSI 373094000 (vessel) [IRAN-EO13902] (Linked To: BRAR, Jugwinder Singh).

Identified as property in which JUGWINDER SINGH BRAR, a person whose property and interests in property are blocked pursuant to E.O. 13902, has an interest.

12. CHIL 1 (C5J280) Chemical/Oil Tanker Gambia flag; Vessel Registration Identification IMO 9171498; MMSI 629009268 (vessel) [IRAN-EO13902] (Linked To: GLORY INTERNATIONAL FZ-LLC).

Identified as property in which GLORY INTERNATIONAL FZ-LLC, a person whose property and interests in property are blocked pursuant to E.O. 13902, has an interest.

13. GLOBAL CREST (3FHI8) Crude Oil Tanker Panama flag; Vessel Registration Identification IMO 9113094; MMSI 372463000 (vessel) [IRAN-EO13902] (Linked To: GLORY INTERNATIONAL FZ-LLC).

Identified as property in which GLORY INTERNATIONAL FZ-LLC, a person whose property and interests in property are blocked pursuant to E.O. 13902, has an interest.

14. GLOBAL DOMINANCE (V2YZ5) Bunkering Tanker Antigua & Barbuda flag; Vessel Registration Identification IMO 9672301; MMSI 305290000 (vessel) [IRAN-EO13902] (Linked To: GLORY INTERNATIONAL FZ-LLC).

Identified as property in which GLORY INTERNATIONAL FZ-LLC, a person whose property and interests in property are blocked pursuant to E.O. 13902, has an interest.

15. MIRAGE (8P2465) Chemical/Oil Tanker Barbados flag; Vessel Registration Identification IMO 9254422; MMSI 314963000 (vessel) [IRAN-EO13902] (Linked To: GLORY INTERNATIONAL FZ-LLC).

Identified as property in which GLORY INTERNATIONAL FZ-LLC, a person whose property and interests in property are blocked pursuant to E.O. 13902, has an interest.

16. NADIYA (3E3423) Oil Products Tanker Panama flag; Vessel Registration Identification IMO 9118745; MMSI 352001151 (vessel) [IRAN-EO13902] (Linked To: GLORY INTERNATIONAL FZ-LLC).

Identified as property in which GLORY INTERNATIONAL FZ-LLC, a person whose property and interests in property are blocked pursuant to E.O. 13902, has an interest.

17. PURNA (a.k.a. “SAMPURNA RAJYA”) (C5J300) Oil Products Tanker Gambia flag; Vessel Registration Identification IMO 9176656; MMSI 629000928 (vessel) [IRAN-EO13902] (Linked To: GLORY INTERNATIONAL FZ-LLC).

Identified as property in which GLORY INTERNATIONAL FZ-LLC, a person whose property and interests in property are blocked pursuant to E.O. 13902, has an interest.

18. GLOBAL ACE (3FJW3) Chemical/Oil Tanker Panama flag; Vessel Registration Identification IMO 9190078; MMSI 374808000 (vessel) [IRAN-EO13902] (Linked To: GLORY INTERNATIONAL FZ-LLC).

Identified as property in which GLORY INTERNATIONAL FZ-LLC, a person whose property and interests in property are blocked pursuant to E.O. 13902, has an interest.

19. GLOBAL ANGEL (3FVC9) Oil Products Tanker Panama flag; Vessel Registration Identification IMO 9311309; MMSI 353283000 (vessel) [IRAN-EO13902] (Linked To: GLORY INTERNATIONAL FZ-LLC).

Identified as property in which GLORY INTERNATIONAL FZ-LLC, a person whose property and interests in property are blocked pursuant to E.O. 13902, has an interest.

20. GLOBAL BEAUTY (3E6819) Chemical/Products Tanker Panama flag; Vessel Registration Identification IMO 9221267; MMSI 352004530 (vessel) [IRAN-EO13902] (Linked To: GLORY INTERNATIONAL FZ-LLC).

Identified as property in which GLORY INTERNATIONAL FZ-LLC, a person whose property and interests in property are blocked pursuant to E.O. 13902, has an interest.

21. GLOBAL DIGNITY (3E2062) Chemical/Products Tanker Panama flag; Vessel Registration Identification IMO 9309227; MMSI 352898795 (vessel) [IRAN-EO13902] (Linked To: GLORY INTERNATIONAL FZ-LLC).

Identified as property in which GLORY INTERNATIONAL FZ-LLC, a person whose property and interests in property are blocked pursuant to E.O. 13902, has an interest.

22. GLOBAL EAGLE (D6A3537) Chemical/Products Tanker Comoros flag; Vessel Registration Identification IMO 9422847; MMSI 620999538 (vessel) [IRAN-EO13902] (Linked To: GLORY INTERNATIONAL FZ-LLC).

Identified as property in which GLORY INTERNATIONAL FZ-LLC, a person whose property and interests in property are blocked pursuant to E.O. 13902, has an interest.

23. GLOBAL HAWK (E5U3877) Chemical/Oil Tanker; Former Vessel Flag Cook Islands; Vessel Registration Identification IMO 9422859; MMSI 518100966 (vessel) [IRAN-EO13902] (Linked To: GLORY INTERNATIONAL FZ-LLC).

Identified as property in which GLORY INTERNATIONAL FZ-LLC, a person whose property and interests in property are blocked pursuant to E.O. 13902, has an interest.

24. GLOBAL PEACE (E5U3881) Oil Products Tanker Cook Islands flag; Vessel Registration Identification IMO 9555199; MMSI 518100969 (vessel) [IRAN-EO13902] (Linked To: GLORY INTERNATIONAL FZ-LLC).

Identified as property in which GLORY INTERNATIONAL FZ-LLC, a person whose property and interests in property are blocked pursuant to E.O. 13902, has an interest.

25. GLOBAL ASPHALT (3FZQ3) Oil Products Tanker Panama flag; Vessel Registration Identification IMO 9005338; MMSI 354816424 (vessel) [IRAN-EO13902] (Linked To: GLOBAL TANKERS PRIVATE LIMITED).

Identified as property in which GLOBAL TANKERS PRIVATE LIMITED, a person whose property and interests in property are blocked pursuant to E.O. 13902, has an interest.

26. GLOBAL GENESIS (E5U3771) Oil Products Tanker; Former Vessel Flag Cook Islands; Vessel Registration Identification IMO 9451501; MMSI 518100860 (vessel) [IRAN-EO13902] (Linked To: GLOBAL TANKERS PRIVATE LIMITED).

Identified as property in which GLOBAL TANKERS PRIVATE LIMITED, a person whose property and interests in property are blocked pursuant to E.O. 13902, has an interest.

27. LUANDA 1 (3FWF5) Anchor Handling Vessel Panama flag; Vessel Registration Identification IMO 9372705; MMSI 357029000 (vessel) [IRAN-EO13902] (Linked To: PRIME TANKERS LLC).

Identified as property in which PRIME TANKERS LLC, a person whose property and interests in property are blocked pursuant to E.O. 13902, has an interest.

28. SIMRAN (HO4539) Oil Products Tanker Panama flag; Vessel Registration Identification IMO 9136644; MMSI 356762000 (vessel) [IRAN-EO13902] (Linked To: GLOBAL TANKERS PRIVATE LIMITED).

Identified as property in which GLOBAL TANKERS PRIVATE LIMITED, a person whose property and interests in property are blocked pursuant to E.O. 13902, has an interest.

Lisa M. Palluconi,
Acting Director, Office of Foreign Assets Control.

[FR Doc. 2025-06406 Filed 4-15-25; 8:45 am]

BILLING CODE 4810-AL-P